DEPARTMENT OF ENERGY

Federal Energy Regulatory Commission

Combined Notice Of Filings #1

Take notice that the Commission received the following electric rate filings:

Docket Numbers: ER10-1818-004; ER10-1819-005; ER10-1820-007; ER10-1817-005.

Applicants: Public Service Company of Colorado, Northern States Power Company, a Minnesota corporation, Northern States Power Company, a Wisconsin corporation, Southwestern Public Service Company.

Description: Supplement to June 28, 2013 Triennial Market Power Analysis of Public Service Company of Colorado for the Northwest Region.

Filed Date: 1/29/14.

Accession Number: 20140129-5034.

Comments Due: 5 p.m. ET 2/19/14.

Docket Numbers: ER10-1827-003; ER10-1825-003.

Applicants: Cleco Power LLC, Cleco Evangeline LLC.

Description: Notice of Non-Material Change in Status of the Cleco Companies.

Filed Date: 1/29/14.

Accession Number: 20140129-5067.

Comments Due: 5 p.m. ET 2/19/14.

Docket Numbers: ER12-2068-006.

Applicants: Blue Sky East, LLC.

Description: Amendment to December 18, 2013 Order No. 784 Compliance Filing to be effective 12/19/2013.

Filed Date: 1/28/14.

Accession Number: 20140128-5228.

Comments Due: 5 p.m. ET 2/18/14.

Docket Numbers: ER12-2265-002.

Applicants: Canandaigua Power Partners, LLC.

Description: Amendment to December 18, 2013 Order No. 784 Compliance Filing to be effective 12/19/2013.

Filed Date: 1/28/14.

Accession Number: 20140128-5227.

Comments Due: 5 p.m. ET 2/18/14.

Docket Numbers: ER14-703-001.

Applicants: Entergy Services, Inc.

Description: EES LBA Agreement Refile—Tenaska 1-29-2014 to be effective 12/31/9998.

Filed Date: 1/29/14.

Accession Number: 20140129-5008.

Comments Due: 5 p.m. ET 2/19/14.

Docket Numbers: ER14-1169-000.

Applicants: Constellation Power Source Generation, LLC.

Description: Notice of Succession to be effective 1/1/2014.

Filed Date: 1/28/14.

Accession Number: 20140128-5177.

Comments Due: 5 p.m. ET 2/18/14.

Docket Numbers: ER14-1170-000.

Applicants: Southwest Power Pool, Inc.

Description: 1518R5 Arkansas Electric Cooperative Corp NITSA NOA to be effective 1/1/2014.

Filed Date: 1/28/14.

Accession Number: 20140128-5183.

Comments Due: 5 p.m. ET 2/18/14.

Docket Numbers: ER14-1171-000.

Applicants: Southwest Power Pool, Inc.

Description: 2198R14 Kansas Power Pool NITSA NOA to be effective 1/1/2014.

Filed Date: 1/28/14.

Accession Number: 20140128-5201.

Comments Due: 5 p.m. ET 2/18/14.

Docket Numbers: ER14-1173-000.

Applicants: Duke Energy Carolinas, LLC.

Description: NCEMC NITSA revisions OATT SA No. 210 to be effective 1/1/2014.

Filed Date: 1/28/14.

Accession Number: 20140128-5229.

Comments Due: 5 p.m. ET 2/18/14.

Docket Numbers: ER14-1174-000.

Applicants: Southwest Power Pool, Inc.

Description: Submission of Unexecuted Non-Firm PTP Transmission Service Agreement No. 2794 to be effective 1/29/2014.

Filed Date: 1/28/14.

Accession Number: 20140128-5231.

Comments Due: 5 p.m. ET 2/18/14.

Docket Numbers: ER14-1176-000.

Applicants: Southwest Power Pool, Inc.

Description: 2655 Kansas Municipal Energy Agency NITSA NOA to be effective 1/1/2014.

Filed Date: 1/28/14.

Accession Number: 20140128-5255.

Comments Due: 5 p.m. ET 2/18/14.

Docket Numbers: ER14-1177-000.

Applicants: Southwest Power Pool, Inc.

Description: 2656 Kansas Municipal Energy Agency NITSA NOA to be effective 1/1/2014.

Filed Date: 1/28/14.

Accession Number: 20140128-5260.

Comments Due: 5 p.m. ET 2/18/14.

Docket Numbers: ER14-1178-000.

Applicants: Southwest Power Pool, Inc.

Description: 2657 Kansas Municipal Energy Agency NITSA NOA to be effective 1/1/2014.

Filed Date: 1/28/14.

Accession Number: 20140128-5261.

Comments Due: 5 p.m. ET 2/18/14.

Docket Numbers: ER14-1179-000.

Applicants: Midcontinent Independent System Operator, Inc., Alliant Energy Corporate Services, Inc.

Description: 2014-01-29_SA 2631 IPL-Stanhope DAF Agreement to be effective 1/1/2014.

Filed Date: 1/29/14.

Accession Number: 20140129-5007.

Comments Due: 5 p.m. ET 2/19/14.

Docket Numbers: ER14-1180-000.

Applicants: Cleco Power LLC.

Description: Cleco Power Comp Filing to be effective 1/30/2014.

Filed Date: 1/29/14.

Accession Number: 20140129-5056.

Comments Due: 5 p.m. ET 2/19/14.

Take notice that the Commission received the following land acquisition reports:

Docket Numbers: LA13-4-000.

Applicants: Flat Rock Windpower LLC, Flat Rock Windpower II, LLC, Marble River, LLC, and Sustaining Power Solutions LLC.

Description: Quarterly Land Acquisition Report of Flat Rock Windpower LLC, et al.

Filed Date: 1/29/14.

Accession Number: 20140129-5065.

Comments Due: 5 p.m. ET 2/19/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 29, 2014.
Nathaniel J. Davis, Sr.,
Deputy Secretary.

[FR Doc. 2014-02427 Filed 2-4-14; 8:45 am]

BILLING CODE 6717-01-P